DEPARTMENT OF THE INTERIOR

Bureau of Land Management

[MT-070-05-1990-EX]

Notice of Intent To Prepare an Environmental Impact Statement (EIS) for the Proposed “M” Pit Mine Expansion at Montana Tunnels Mine

AGENCY: Bureau of Land Management, Interior.

ACTION: Notice of intent.

SUMMARY: The Bureau of Land Management (BLM), Butte Field Office, and the Montana Department of Environmental Quality (DEQ) intend to prepare an Environmental Impact Statement for the “M” Pit Mine Expansion at Montana Tunnels Mine. The BLM and DEQ will announce a public scoping meeting to identify relevant issues in advance through BLM's and DEQ's web sites and in local news media at least 15 days prior to the event.

DATES: The scoping comment period will start with the publication of this notice. Comments should be received by March 24, 2005 at the address listed below.

ADDRESSES: You may submit comments by any of the following methods:

• Email: ghallsten@state.mt.us.

• Mail: Send written comments to “M” Pit Mine Expansion at Montana Tunnels Mine EIS, Greg Hallsten, Montana Department of Environmental Quality, Director's Office, PO Box 200901, Helena, MT 59620-0901.

FOR FURTHER INFORMATION CONTACT: For further information and/or to have your name added to our mailing list, contact: Greg Hallsten, (406) 444-3276, Montana Department of Environmental Quality, Director's Office, PO Box 200901, Helena, MT 59620-0901, ghallsten@state.mt.us or David Williams, (406) 533-7655, Bureau of Land Management, Butte Field Office, 106 N. Parkmont, Butte, MT 597701, david_r_williams @blm.gov. Documents related to this EIS will be posted on the Montana DEQ Web site (www.deq.state.mt.us).

SUPPLEMENTARY INFORMATION: This document provides notice that the Butte Field Office, Montana intends to prepare an Environmental Impact Statement for the “M” Pit Mine Expansion at Montana Tunnels Mine in cooperation with the State of Montana, Department of Environmental Quality.

The mine area is located approximately five miles west of Jefferson City, Jefferson County, Montana. Montana Tunnels has mined and processed ore from a polymetallic mineral deposit since 1986 producing lead, zinc, gold and silver. It encompasses approximately 150 acres of public land. The EIS will fulfill the needs and obligations set forth by the National Environmental Policy Act (NEPA), the Federal Land Policy and Management Act (FLPMA), and BLM management policies. The BLM will work collaboratively with interested parties to identify the management decisions that are best suited to local, regional, and national needs and concerns.

The purpose of the public scoping process is to determine relevant issues that will influence the scope of the environmental analysis and EIS alternatives. Comments on issues can be submitted as indicated above. To be most helpful, formal scoping comments should be submitted within 15 days after the public meeting, although comments will be accepted throughout the preparation of the EIS. The list of attendees and information gathered at each scoping meeting will be available to the public and open for 30 days after the meeting to any participant who wishes to clarify the views expressed. Individual respondents may request confidentiality. If you wish to withhold your name and/or address from public review or disclosure under the Freedom of Information Act, you must state this prominently at the beginning of your written comment. Such requests will be honored to the extent allowed by law. All submissions from organizations or businesses, and from individuals identifying themselves as representatives or officials of organizations or businesses, are available for public inspection in their entirety.

The BLM and DEQ are seeking comments from individuals, organizations, tribal governments, and Federal, State, and local agencies that are interested or may be affected by the proposed action. While public participation is welcome at any time, comments received within 30 days of the publication of this notice will be especially useful in the preparation of the EIS. To assist the BLM and DEQ in identifying and considering issues and concerns on the proposed action, comments on the proposed EIS should be as specific as possible. Reviewers may wish to refer to the Council on Environmental Quality Regulations that implement the procedural provisions of the National Environmental Policy Act at 40 CFR 1503.3 in addressing these points.

An application for mine expansion from Montana Tunnels necessitates the additional environmental analysis. Preliminary issues and management concerns have been identified by BLM and Montana DEQ personnel, other agencies, and in meetings with individuals and user groups. They represent the agencies' knowledge to date on existing issues and concerns. An interdisciplinary approach will be used to develop the EIS in order to consider the variety of resource issues and concerns identified. Disciplines involved in the planning process will include specialists with expertise in: minerals and geology, wildlife, hydrology, soils, sociology and economics.

Dated: November 15, 2004.
Steven Hartmann,
Assistant Field Manager.

[FR Doc. 05-3293 Filed 2-18-05; 8:45 am]

BILLING CODE 4310-$$-P